DEPARTMENT OF THE INTERIOR

Fish and Wildlife Service

Information Collection Sent to the Office of Management and Budget (OMB) for Approval; OMB Control Number 1018-0007; Annual Certification of Hunting and Sport Fishing Licenses Issued, 50 CFR 80.10

AGENCY: Fish and Wildlife Service, Interior.

ACTION: Notice; request for comments.

SUMMARY: We (Fish and Wildlife Service) have sent an Information Collection Request (ICR) to OMB for review and approval. This ICR is scheduled to expire on December 31, 2006. We may not conduct or sponsor and a person is not required to respond to a collection of information unless it displays a currently valid OMB control number. However, under OMB regulations, we may continue to conduct or sponsor this information collection while it is pending at OMB.

DATES: You must submit comments on or before January 22, 2007.

ADDRESSES: Send your comments and suggestions on this ICR to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail); (703) 358-2269 (fax); or hope_grey@fws.gov (e-mail).

FOR FURTHER INFORMATION CONTACT: To request additional information about this ICR, contact Hope Grey at one of the addresses above or by telephone at (703) 358-2482.

SUPPLEMENTARY INFORMATION: OMB Control Number: 1018-0007.

Title: Annual Certification of Hunting and Sport Fishing Licenses Issued, 50 CFR 80.10.

Service Form Number(s): 3-154a and 3-154b.

Type of Request: Revision of currently approved collection.

Affected Public: States and territories (Commonwealth of Puerto Rico, District of Columbia, Commonwealth of the Northern Mariana Islands, Guam, Virgin Islands, and American Samoa).

Respondent's Obligation: Required to obtain or retain benefits.

Estimated Annual Number of Respondents: 56.

Frequency of Collection: Annually.

Estimated Number of Responses: 112 (one per respondent for each form).

Estimated Time Per Response: Average of 12 hours for FWS Form 3-154a and 20 hours for FWS Form 3-154b.

Estimated Total Annual Burden Hours: 1,792.

Abstract: The Federal Aid in Wildlife Restoration Act (16 U.S.C. 669-669i) and the Federal Aid in Sport Fish Restoration Act (16 U.S.C. 777-777k) provide Federal assistance to the States for management and restoration of fish and wildlife. These Acts and our regulations at 50 CFR 80.10 require that States and territories annually certify their hunting and fishing license sales. States and territories that receive grants under these Acts use FWS Forms 3-154a (Part I—Certification) and 3-154b (Part II—Summary of Hunting and Sport Fishing Licenses Issued) to certify the number and amount of hunting and fishing license sales. We use the information collected to determine apportionment and distribution of funds according to the formula specified in each Act.

Comments: On July 24, 2006, we published in the Federal Register (71 FR 41831) a notice of our intent to request that OMB renew approval for this information collection. In that notice, we solicited comments for 60 days, ending on September 22, 2006. We did not receive any comments.

We again invite comments concerning this information collection on:

(1) Whether or not the collection of information is necessary, including whether or not the information will have practical utility;

(2) The accuracy of our estimate of the burden for this collection of information;

(3) Ways to enhance the quality, utility, and clarity of the information to be collected; and

(4) Ways to minimize the burden of the collection of information on respondents. Comments submitted in response to this notice are a matter of public record.

Dated: November 20, 2006.
Hope Grey,
Information Collection Clearance Officer, Fish and Wildlife Service.

[FR Doc. E6-21891 Filed 12-20-06; 8:45 am]

BILLING CODE 4310-55-P